DEPARTMENT OF HEALTH AND HUMAN SERVICES

Food and Drug Administration

[Docket No. FDA-2012-N-0001]

Advisory Committees; Tentative Schedule of Meetings for 2013

AGENCY: Food and Drug Administration, HHS.

ACTION: Notice.

SUMMARY: The Food and Drug Administration (FDA) is announcing a tentative schedule of forthcoming meetings of its public advisory committees for 2013. During 1991, at the request of the Commissioner of Food and Drugs (the Commissioner), the Institute of Medicine (the IOM) conducted a study of the use of FDA's advisory committees. In its final report, one of the IOM's recommendations was for the Agency to publish an annual tentative schedule of its meetings in the Federal Register. This publication implements the IOM's recommendation.

FOR FURTHER INFORMATION CONTACT: Teresa L. Hays, Advisory Committee Oversight and Management Staff (HF-4), Food and Drug Administration, 10903 New Hampshire Ave., Bldg. 32, rm. 5290, Silver Spring, MD 20993, 301-796-8220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/AdvisoryCommittees/default.htm. FDA will continue to publish a Federal Register notice 15 days in advance of each upcoming advisory committee meeting, to announce the meeting (21 CFR 14.20).

The following list announces FDA's tentatively scheduled advisory committee meetings for 2013. You may also obtain up-to-date information by calling the Advisory Committee Information Line, 1-800-741-8138 (301-443-0572 in the Washington, DC area) or on the FDA Internet Web site under our 2013 tentative scheduled meeting listing at http://www.fda.gov/AdvisoryCommittees/Calendar/ucm153468.htm.

Table 1
Committee name | Tentative date(s) of meeting(s)
OFFICE OF THE COMMISSIONER
Pediatric Advisory Committee | March 14-15, September 19-20.
Risk Communication Advisory Committee | February 11-12, April 29-30, August 15-16, December 16-17.
Science Board to FDA | February 27, June 24, November 20.
CENTER FOR BIOLOGICS EVALUATION AND RESEARCH
Allergenic Products Advisory Committee | November 5-6.
Blood Products Advisory Committee | February 12-13, April 8-9, August 1-2.
Cellular, Tissue and Gene Therapies Advisory Committee | January 15, April 17-18, June 27-28, October 24-25.
Transmissible Spongiform Encephalopathies Advisory Committee | March 14-15.
Vaccines and Related Biological Products Advisory Committee | February 27, May 8-9 or July 17-18 (Backup date), September 18-19, November 13-14.
CENTER FOR DRUG EVALUATION AND RESEARCH
Anesthetic and Analgesic Drug Products Advisory Committee | Date(s), if needed, to be determined.
Anti-Infective Drugs Advisory Committee | Date(s), if needed, to be determined.
Antiviral Drugs Advisory Committee | May and October dates to be determined.
Arthritis Advisory Committee | July or August and fall dates to be determined.
Cardiovascular and Renal Drugs Advisory Committee | April 17 and other date(s) to be determined.
Dermatologic and Ophthalmic Drugs Advisory Committee | Date(s), if needed, to be determined.
Drug Safety and Risk Management Advisory Committee | January 24-25, March 5.
Endocrinologic and Metabolic Drugs Advisory Committee | January 10, July, and August dates to be determined.
Gastrointestinal Drugs Advisory Committee | March 19 and other date(s) to be determined.
Medical Imaging Drugs Advisory Committee | February 14 and May date to be determined.
Nonprescription Drugs Advisory Committee | Date(s), if needed, to be determined.
Oncologic Drugs Advisory Committee | April 5, May, June, July, September date(s) to be determined.
Pharmacy Compounding Drugs Advisory Committee | Date(s), if needed, to be determined.
Peripheral and Central Nervous System Drugs Advisory Committee | May 22.
Advisory Committee for Pharmaceutical Science and Clinical Pharmacology | Date(s), if needed, to be determined.
Psychopharmacologic Drugs Advisory Committee | Date(s), if needed, to be determined.
Pulmonary-Allergy Drugs Advisory Committee | January 29-30, March 7.
Advisory Committee for Reproductive Health Drugs | March 4-5, July 9.
CENTER FOR DEVICES AND RADIOLOGICAL HEALTH
Medical Devices Advisory Committee (Comprised of 18 Panels)
Anesthesiology and Respiratory Therapy Devices Panel | Date(s), if needed, to be determined.
Circulatory System Devices Panel | May 17, May 24, June 27, September 27, November 22.
Clinical Chemistry and Clinical Toxicology Devices Panel | April 25.
Dental Products Panel | Date(s), if needed, to be determined.
Ear, Nose, and Throat Devices Panel | July 12.
Gastroenterology-Urology Devices Panel | April 24, May 16.
General and Plastic Surgery Devices Panel | June 13.
General Hospital and Personal Use Devices Panel | June 28, August 30.
Hematology and Pathology Devices Panel | Date(s), if needed, to be determined.
Immunology Devices Panel | Date(s), if needed, to be determined.
Medical Devices Dispute Resolution Panel | Date(s), if needed, to be determined.
Microbiology Devices Panel | June 14.
Molecular and Clinical Genetics Panel | September 13.
Neurological Devices Panel | February 22.
Obstetrics and Gynecology Devices Panel | September 20.
Ophthalmic Devices Panel | June 14, August 23.
Orthopaedic and Rehabilitation Devices Panel | April 5, September 26.
Radiological Devices Panel | September 12.
Device Good Manufacturing Practice Advisory Committee | April 11.
National Mammography Quality Assurance Advisory Committee | October 25.
Technical Electronic Product Radiation Safety Standards Committee | Date(s), if needed, to be determined.
CENTER FOR FOOD SAFETY AND APPLIED NUTRITION
Food Advisory Committee | July 15-16, August 29-30, September 23-24.
CENTER FOR TOBACCO PRODUCTS
Tobacco Products Scientific Advisory Committee | Feb 11-12, April 30-May 1.
CENTER FOR VETERINARY MEDICINE
Veterinary Medicine Advisory Committee | Date(s), if needed, to be determined.
NATIONAL CENTER FOR TOXICOLOGICAL RESEARCH (NCTR)
Science Advisory Board to NCTR | December 10-11.

Dated: December 26, 2012.
Leslie Kux,
Assistant Commissioner for Policy.

[FR Doc. 2012-31475 Filed 12-31-12; 8:45 am]

BILLING CODE 4160-01-P